DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the parties listed below.

DATES: All comments on the petition must be received by MSHA's Office of Standards, Regulations, and Variances on or before July 12, 2017.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petition for Modification

Docket Number: M-2017-009-C.

Petitioner: Hamilton County Coal, LLC, 18033 County Road 500E, Dahlgren, Illinois 62828-4294.

Mine: Mine No. 1, MSHA I.D. No. 11-03203, located in Hamilton County, Illinois.

Regulation Affected: 30 CFR 75.382 (Mechanical escape facilities).

Modification Requested: The petitioner requests a modification of the existing standard to permit the use of the slope belt conveyor as a mechanical escape facility at Mine No. 1. The petitioner states that:

a. Mine No. 1 extracts coal from the Herrin No. 6 coal seam by both continuous mining and longwall extraction methods. The coal seam is intersected by a vertical shaft with cage hoist facility and by a dual compartment slope that contains a slope car hoist facility in the lower track compartment and a belt conveyor in the isolated upper compartment. Escapeways, as required in 30 CFR 75.380(a), are connected to these hoist facilities as required in 30 CFR 75.380(i)(1) and (i)(2).

b. Rope and drum hoists used as mechanical escape facilities at these locations are subject to maintenance and/or conditions that could interfere with the operation of the facility for extended periods of time. The availability of a third mechanical escape facility (slope belt conveyor) provides an additional layer of safety for the miners and enhances compliance with escapeway regulations in that there will be an additional escape facility readily available during normal hoist operations. Additionally, the use of the slope belt conveyor as a mechanical escape facility provides the most efficient means to evacuate miners in the event of a mine emergency. The slope belt conveyor provides a nonstop conveyance on which the miners can exit the mine without the delay of having to wait on the limited capacity of the slope car as it makes a roundtrip in and out of the mine. At a speed of 140 feet per minute, the slope belt conveyor can evacuate 100 miners in approximately 30 minutes. The slope car hoist requires approximately 120 minutes to evacuate 100 miners. The petitioner further states that the use of the slope belt conveyor as a mechanical escape facility will be conditioned upon compliance with the following:

(1) The slope belt conveyor will be equipped with an automatic braking system which prevents the belt from reversing direction if power is lost. The drive motor gear boxes are provided with a braking/blocking device that mechanically prevents rotation of the gears when the drive motors are de-energized.

(2) The power source for the slope belt conveyor will be independent of the underground mine's power source.

(3) The slope belt conveyor is powered by multiple drive motors located on the mine's surface facilities. Each drive motor is controlled by a variable frequency drive that, coupled with encoders, monitors the speed of the motor unit and can shut down the belt if a predetermined speed set point is exceeded. When persons are being transported on the slope belt conveyor as a mechanical escape facility, the belt speed will not exceed 140 feet per minute.

(4) A personnel loading platform will be installed across the slope belt conveyor outby the tailpiece. The loading platform will be designed to enable miners, including disabled persons, to safely and systematically board the slope belt conveyor.

(5) A minimum of four attendants will be stationed at the personnel loading platform to assist miners as they transition from the loading platform onto the slope belt conveyor.

(6) A personnel unloading platform will be installed across the slope belt conveyor at the first open cross cut on the surface. The unloading platform will be designed to enable miners, including disabled persons, to safely and systematically exit the slope belt conveyor.

(7) A minimum of four attendants will be stationed at the personnel unloading platform to assist miners as they transition from the slope belt conveyor onto the unloading platform.

(8) Positive-acting stop controls will be installed continuously along the slope belt conveyor and such controls will be readily accessible to persons being transported on the slope belt conveyor.

(9) The slope belt conveyor will be equipped with automatic stop controls that will automatically stop the belt if a person travels beyond the unloading platform.

(10) Automatic controls will de-energize the belt flight dumping onto the slope belt conveyor and will be so designed that the power cannot be reapplied to the belt flight dumping onto the slope belt conveyor while it is in use as a mechanical escape facility.

(11) The slope belt conveyor will have a minimum vertical clearance of 18 inches from the nearest overhead projection when measured from the edge of the belt.

(12) Adequate illumination will be provided at the personnel loading and unloading platforms on the slope belt conveyor.

(13) The slope belt conveyor will not be used to transport supplies and the slope belt conveyor will be clear of all material before persons are transported.

(14) Telephone or other suitable communications will be provided at the personnel loading and unloading platforms on the slope belt conveyor.

(15) Suitable crossing facilities will be provided where ever persons must cross the moving slope belt conveyor to gain access at the personnel loading and unloading platforms.

(16) The slope belt conveyor will be operated in the mechanical escapeway mode at least weekly. A record of this test will be documented and made available for inspection by authorized representatives of the Secretary and representatives of the Illinois Department of Natural Resources.

(17) All underground mine personnel will be trained in the provisions of this petition before the petition is implemented. A record of this training will be documented and made available for inspection by authorized representatives of the Secretary and representatives of the Illinois Department of Natural Resources.

The petitioner asserts that the proposed alternative method will at all times provide the same degree of safety for the underground miners at Mine No. 1 as that afforded by the existing standard.

Sheila McConnell,
Director, Office of Standards, Regulations, and Variances.

[FR Doc. 2017-12097 Filed 6-9-17; 8:45 am]

BILLING CODE 4520-43-P